DEPARTMENT OF THE TREASURY

Internal Revenue Service

Open Meeting of the Taxpayer Advocacy Panel Notices and Correspondence Project Committee

AGENCY: Internal Revenue Service (IRS), Treasury.

ACTION: Notice of Meeting.

SUMMARY: An open meeting of the Taxpayer Advocacy Panel Notices and Correspondence Project Committee will be conducted. The Taxpayer Advocacy Panel is soliciting public comments, ideas, and suggestions on improving customer service at the Internal Revenue Service.

DATES: The meeting will be held Monday, December 3, 2012 and Tuesday, December 4, 2012.

FOR FURTHER INFORMATION CONTACT: Timothy Shepard at 1-888-912-1227 or 206-220-6095.

SUPPLEMENTARY INFORMATION: Notice is hereby given pursuant to Section 10(a)(2) of the Federal Advisory Committee Act, 5 U.S.C. App. (1988) that a meeting of the Taxpayer Advocacy Panel Notices and Correspondence Project Committee will be held Monday, December 3, 2012, from 1:00 p.m. to 4:30 p.m. and Tuesday, December 4, from 8:00 a.m. until 4:30 p.m. Eastern Time at Bennett Federal Building, 400 West Bay Street, Suite 310, Jacksonville, FL 32202. The public is invited to make oral comments or submit written statements for consideration. Due to limited time and structure of meeting, notification of intent to participate must be made with Timothy Shepard. For more information please contact Mr. Shepard at 1-888-912-1227 or 206-220-6095, or write TAP Office, 915 2nd Avenue, MS W-406, Seattle, WA 98174, or contact us at the Web site: http://www.improveirs.org.

The agenda will include various IRS Issues.

Dated: November 6, 2012.
Otis Simpson,
Acting Director, Taxpayer Advocacy Panel.

[FR Doc. 2012-27476 Filed 11-9-12; 8:45 am]

BILLING CODE 4830-01-P